DEPARTMENT OF TRANSPORTATION

Federal Aviation Administration

14 CFR Part 71

[Docket No. FAA-2010-0119 Airspace Docket No. 10-AAL-6]

Revision of Class E Airspace; Unalakleet, AK

AGENCY: Federal Aviation Administration (FAA), DOT.

ACTION: Final rule.

SUMMARY: This action revises Class E airspace at Unalakleet, AK. The amendment and development of two (each) Standard Instrument Approach Procedures (SIAPs), and the development of one Obstacle Departure Procedure (ODP) at the Unalakleet Airport have made this action necessary to enhance safety by ensuring that sufficient Class E airspace exists for air traffic management of Instrument Flight Rules (IFR) operations.

DATES: Effective 0901 UTC, January 13, 2011. The Director of the Federal Register approves this incorporation by reference action under title 1, Code of Federal Regulations, part 51, subject to the annual revision of FAA Order 7400.9 and publication of conforming amendments.

FOR FURTHER INFORMATION CONTACT: Derril Bergt, Federal Aviation Administration, 222 West 7th Avenue, Box 14, Anchorage, AK 99513-7587; telephone number (907) 271-2796; fax: (907) 271-2850; email: derril.bergt@faa.gov. Internet address: http://www.faa.gov/about/office_org/headquarters_offices/ato/service_units/systemops/fs/alaskan/rulemaking/.

SUPPLEMENTARY INFORMATION:

History

On Thursday, June 10, 2010, the FAA published a notice of proposed rulemaking in the Federal Register to revise Class E airspace at Unalakleet, AK (75 FR 32865).

Interested parties were invited to participate in this rulemaking proceeding by submitting written comments on the proposal to the FAA. No comments were received.

There was an error in the notice of proposed rulemaking regarding the E5 airspace coordinates for the Unalakleet VOR/DME. This error has been corrected in the final rule. The coordinates for the Unalakleet airport have been updated from those used in previous airspace revisions made in 1996 and 1998 as a result of more accurate survey data now available. With the exception of editorial changes, and the changes described above, this rule is the same as that proposed in the NPRM.

The Class E airspace areas designated as a surface area for an airport are published in paragraph 6002 of FAA Order 7400.9U, Airspace Designations and Reporting Points, dated August 18, 2010, and effective September 15, 2010, which is incorporated by reference in 14 CFR 71.1. The Class E airspace areas designated as 700/1,200 ft. transition areas are published in paragraph 6005 of FAA Order 7400.9U, Airspace Designations and Reporting Points, dated August 18, 2010, and effective September 15, 2010, which is incorporated by reference in 14 CFR 71.1. The Class E airspace designations listed in this document will be published subsequently in the Order.

The Rule

This action amends Title 14 Code of Federal Regulations (14 CFR) part 71 by enlarging Class E5 airspace at the Unalakleet Airport, Unalakleet, AK, to accommodate a new departure procedure, and 2 new and amended SIAPs at Unalakleet Airport. The new SIAPs and the amendments to existing SIAPs require that the orientation and dimensions of Class E airspace be revised for the safety and efficiency of management of air IFR traffic.

The revised Class E airspace provides adequate controlled airspace upward from the surface, and from 700 and 1,200 feet above the surface for the safety of IFR operations at Unalakleet Airport by ensuring that Class E airspace is sufficient for management of air traffic.

The FAA has determined that this proposed regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Because this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the Unalakleet Airport, Unalakleet, Alaska, and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, and effective September 15, 2010, is amended as follows:

* * * * *

Paragraph 6002 Class E Airspace Designated as Surface Areas.

* * * * *

AAL AK E2 Unalakleet, AK [Revised]

Unalakleet Airport, AK

(Lat. 63°53′19″ N., long. 160°47′57″ W.)

Unalakleet Localizer

(Lat. 63°52′52″ N., long. 160°47′42″ W.)

Within a 4.2-mile radius of the Unalakleet Airport, AK, and within 3.2 miles each side of the Unalakleet Localizer front course, extending from the 4.2-mile radius to 12.6 miles northwest of the Unalakleet Airport, AK. This Class E airspace area is effective during the specific dates and times established in advance by Notice to Airmen. The effective date and time will thereafter be continuously published in the Supplement Alaska (Airport/Facility Directory).

* * * * *

Paragraph 6005 Class E Airspace Extending Upward From 700 Feet or More Above the Surface of the Earth.

* * * * *

AAL AK E5 Unalakleet, AK [Revised]

Unalakleet Airport, AK

(Lat. 63°53′19″ N., long. 160°47′57″ W.)

Unalakleet Localizer

(Lat. 63°52′52″ N., long. 160°47′42″ W.)

Unalakleet VOR/DME

(Lat. 63°53′31″ N., long. 160°41′04″ W.)

That airspace extending upward from 700 feet above the surface within a 7.3-mile radius of the Unalakleet Airport, AK, and within 3.8 miles either side of the 289° radial of the Unalakleet VOR/DME, extending from the 7.3-mile radius to 15.4 miles west of the Unalakleet VOR/DME, and within 3.6 miles either side of the Unalakleet Localizer front course, extending from the 7.3-mile radius to 13.6 miles northwest of the Unalakleet Airport; and that airspace extending upward from 1,200 feet above the surface within a 74-mile radius of the Unalakleet Airport, AK.

Issued in Anchorage, AK, on September 30, 2010.
Michael A. Tarr,
Manager, Alaska Flight Services Information Area Group.

[FR Doc. 2010-25478 Filed 10-8-10; 8:45 am]

BILLING CODE 4910-13-P